DEPARTMENT OF COMMERCE

National Oceanic and Atmospheric Administration

50 CFR Part 679

[Docket No. 060511126-6285-02; I.D. 050306E]

Fisheries of the Exclusive Economic Zone Off Alaska; Allocating Gulf of Alaska Fishery Resources; Notification of Rockfish Pilot Program Public Workshop

AGENCY: National Marine Fisheries Service (NMFS), National Oceanic and Atmospheric Administration (NOAA), Commerce.

ACTION: Notification of public workshop.

SUMMARY: NMFS will present a public workshop on the Central Gulf of Alaska Rockfish Pilot Program (Program) for potentially eligible participants and other interested parties. NMFS will provide an overview of the Program, discuss the key Program elements and answer questions. NMFS is conducting this public workshop to provide assistance to fishery participants in understanding and reviewing this new Program.

DATES: The workshop will be held on Friday, December 1, 2006, 9 a.m. to 12 p.m. Alaska Standard Time, Kodiak, AK.

ADDRESSES: The workshop will be held at the following location: Kodiak Fisheries Research Center (Main Conference Room), 301 Research Court, Kodiak, Ak 99615.

FOR FURTHER INFORMATION CONTACT: Glenn Merrill, 907-586-7228 or glenn.merrill@noaa.gov.

SUPPLEMENTARY INFORMATION: On June 7, 2006 (71 FR 33040), NMFS published a proposed rule that would implement the Program as Amendment 68 to the Fishery Management Plan for Groundfish of the Gulf of Alaska (FMP). On August 10, 2006, NMFS approved Amendment 68 to the FMP. Amendment 68 establishes a program to allocate specific Central Gulf of Alaska groundfish resources among harvesters and processors. Harvesting and processing privileges for several species of rockfish, incidental harvests of other groundfish species, and halibut prohibited species catch would be allocated to participants that meet specific requirements. Amendment 68 was approved by the North Pacific Fishery Management Council (Council) on June 6, 2005. Amendment 68 implements the Program and is designed to meet the requirements of section 802 of the Consolidated Appropriations Act of 2004 (Public Law 108-109, Section 802). Section 802 specifies the eligible participants, duration of the program, methods for allocating harvesting and processing privileges, and provides NMFS with the authority to regulate processors under this Program.

A final rule implementing Amendment 68 will be published in the Federal Register on November 20, 2006. NMFS is conducting public workshops to provide assistance to fishery participants in reviewing the requirements of this new program. A workshop was conducted on November 17, 2006, at the Nordby Conference Center in Fishermen's Terminal, 3919 18th Ave. W. Seattle, WA 98119. NMFS has scheduled a second workshop for December 1, 2006, to be held at the Kodiak Fisheries Research Center (Main Conference Room), 301 Research Court, Kodiak, AK 99615.

At each workshop, NMFS will provide an overview of the Program, and discuss the key Program elements. The key Program elements to be discussed include quota share application; cooperative, limited access, and opt-out fishery participation provisions; cooperative quota transfer provisions; the appeals process; monitoring and enforcement; and electronic reporting. Additionally, NMFS will answer questions from workshop participants. For further information on the Program, please visit the NMFS Alaska Region website at http://www.fakr.noaa.gov.

Special Accommodations

The workshop is physically accessible to people with disabilities. Requests for special accommodations should be directed to Glenn Merrill (see FOR FURTHER INFORMATION CONTACT) at least 5 working days before the workshop date.

Dated: November 14, 2006.
James P. Burgess,
Acting Director, Office of Sustainable Fisheries, National Marine Fisheries Service.

[FR Doc. E6-19479 Filed 11-16-06; 8:45 am]

BILLING CODE 3510-22-S